DEPARTMENT OF THE INTERIOR

National Park Service

[NPS-WASO-NAGPRA-NPS0027271; PPWOCRADN0-PCU00RP14.R50000]

Notice of Inventory Completion: The Filson Historical Society, Louisville, KY

AGENCY: National Park Service, Interior.

ACTION: Notice.

SUMMARY: The Filson Historical Society has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Filson Historical Society. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Filson Historical Society at the address in this notice by April 1, 2019.

ADDRESSES: Maureen Lane, The Filson Historical Society, 1310 S Third Street, Louisville, KY 40206, telephone (502) 635-5083, email Maureen@filsonhistorical.org.

SUPPLEMENTARY INFORMATION: Notice is here given in accordance with the Native American Graves Protection and Repatriation Act (NAGPRA), 25 U.S.C. 3003, of the completion of an inventory of human remains under the control of the Filson Historical Society, Louisville, KY. The human remains were removed from Sims, Morton County, ND.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Filson Historical Society's professional staff in consultation with representatives of the Northern Cheyenne Tribe of the Northern Cheyenne Indian Reservation, Montana, and the Three Affiliated Tribes of the Fort Berthold Reservation, North Dakota.

History and Description of the Remains

Between 1890 and 1915, human remains representing, at minimum, one individual were removed from Sims in Morton County, ND. The partial remains of the individual were initially loaned to the Filson Historical Society in 1935, and then were donated to the collection in 1951 by Lewis A. Walter, who obtained them from Bernhart George Letzring (b. 1885). There are very few records regarding these human remains. A note was found stating “Sacajawea's skull and many beads and elks teeth taken from her grave on his father's [Albert Letzring] homestead place in North Dakota.” It is not believed that this individual is Sacajawea. No known individuals were identified. U.S. Census records place Bernhart Letzring and his father Albert Letzring in Sims, Morton County, ND, between 1890 and 1915, where Albert acquired a homestead consisting of 160 acres of land. Land Patent records (see Land Patent BLM Serial Nr: NDMTAA 055412) accessible through the U.S. Department of the Interior, Bureau of Land Management Land Patents website show the exact location of the Letzring homestead (https://glorecords.blm.gov/search/default.aspx). U.S. Census records show that after 1915, Letzring moved to Florida.

The note found in the Filson's records stated that “many beads and elks teeth” were also taken from the individual's grave. It is unclear whether these associated funerary items were ever loaned or donated to the Filson Historical Society.

Determinations Made by the Filson Historical Society

Officials of the Filson Historical Society have determined that:

• Pursuant to 25 U.S.C. 3001(9), the human remains described in this notice represent the physical remains of one individual of Native American ancestry.

• Pursuant to 25 U.S.C. 3001(2), there is a relationship of shared group identity that can be reasonably traced between the Native American human remains and the Northern Cheyenne Tribe of the Northern Cheyenne Indian Reservation, Montana, and the Three Affiliated Tribes of the Fort Berthold Reservation, North Dakota.

Additional Requestors and Disposition

Lineal descendants or representatives of any Indian Tribe or Native Hawaiian organization not identified in this notice that wish to request transfer of control of these human remains should submit a written request with information in support of the request to Maureen Lane, The Filson Historical Society, 1310 S. Third Street, Louisville, KY 40206, telephone (502) 635-5083, email Maureen@filsonhistorical.org by April 1, 2019. After that date, if no additional requestors have come forward, transfer of control of the human remains to the Northern Cheyenne Tribe of the Northern Cheyenne Indian Reservation, Montana, and the Three Affiliated Tribes of the Fort Berthold Reservation, North Dakota, may proceed.

The Filson Historical Society is responsible for notifying the Northern Cheyenne Tribe of the Northern Cheyenne Indian Reservation, Montana, and the Three Affiliated Tribes of the Fort Berthold Reservation, North Dakota, that this notice has been published.

Dated: February 1, 2019.
Melanie O'Brien,
Manager, National NAGPRA Program.

[FR Doc. 2019-03581 Filed 2-28-19; 8:45 am]

BILLING CODE 4312-52-P